DEPARTMENT OF COMMERCE

National Oceanic and Atmospheric Administration

[I.D. 030104E]

Caribbean Fishery Management Council; Public Meeting

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on March 30-31, 2004. The Council will convene on Tuesday, March 30, 2004, from 9 a.m. to 5 p.m., and the Administrative Committee will meet from 5:15 p.m. to 6:15 p.m. The Council will reconvene on Wednesday, March 31, 2004, from 9 a.m. to 5 p.m., approximately.

ADDRESSES: The meetings will be held at the Mayaguez Resort and Casino, Rd.104, Km. 0.3, Mayaguez, Puerto Rico 00680.

FOR FURTHER INFORMATION CONTACT: Caribbean Fishery Management Council, 268 Munoz Rivera Avenue, Suite 1108, San Juan, Puerto Rico 00918-1920, telephone: (787) 766-5926.

SUPPLEMENTARY INFORMATION: The Council will hold its 115th regular public meeting to discuss the items contained in the following agenda

:

March 30, 2004, 9 a.m.-5 p.m.

Call to Order

Adoption of Agenda

Consideration of 113th and 114th Council Meeting Verbatim Minutes

Executive Director's Report

Proposed Rule (PR) New Regulations - Aida Rosario

Discussion of Essential Fish Habitat/Environmental Impact Statement (EFH/EIS) - Bob Trumble

5:15 p.m.-6:15 p.m.

Administrative Committee Meeting

Advisory Panel/Scientific and Statistical Committee/Habitat Advisory Panel Membership

Budget: 2002, 2003, 2004-5

Pending Travel and Contracts

Other Business

March 31, 2004, 9 a.m.-5 p.m.

Presentations:

Study on Costs and Earnings Trap Fishery - Juan Agar

Southeast Data and Review (SEDAR) - John Carmichael

Lobster Assessment - David Die

Discussion Sustainable Fisheries Act (SFA) Draft Document

Table 14

Closure Grammanic Bank

Enforcement Report

Puerto Rico

U.S. Virgin Islands

NOAA

U.S. Coast Guard

Administrative Committee Recommendations

March 30th, 2004

Meetings Attended by Council Members and Staff

Other Business

Next Council Meeting

The meetings are open to the public, and will be conducted in English. Simultaneous translation will be provided (English-Spanish). Fishers and other interested persons are invited to attend and participate with oral or written statements regarding agenda issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and/other auxiliary aids, please contact Mr. Miguel A. Rolon, Executive Director, Caribbean Fishery Management Council, 268 Munoz Rivera Avenue, Suite 1108, San Juan, Puerto Rico, 00918-2577, telephone: (787) 766-5926, at least 5 days prior to the meeting date.

Dated: March 2, 2004.
Peter H. Fricke,
Acting Director, Office of Sustainable Fisheries, National Marine Fisheries Service.

[FR Doc. 04-5185 Filed 3-5-04; 8:45 am]

BILLING CODE 3510-22-S